DEPARTMENT OF THE INTERIOR

Geological Survey

[Account Number GX13CN00B9D1000]

Notice of Request for Nominees for the Advisory Committee on Water Information

AGENCY: United States Geological Survey (USGS), Interior.

ACTION: Notice of request for nominees.

SUMMARY: The U.S. Department of the Interior (Interior) is seeking nominations for individuals to be considered as Committee members and/or alternates to serve on the Advisory Committee on Water Information (ACWI).

Membership represents a wide range of water resources interests and functions. The ACWI will have a maximum of 35 members. Members will represent the interests of water oriented organizations and will be selected from among, but not limited to the following groups: Federal agencies, professional water-related associations, State and country water-related associations, academia, private industry, water utility associations, civil engineering societies, watershed and land conservation associations, ecological societies, lake, coastal, and ocean associations, environmental and educational groups.

Member organizations designate their representatives and alternates. Membership rests not with the individual person but rather with the member organization, who names their representative, and sometimes an alternate.

Nominations should include a resume providing an adequate description of the nominee's qualifications, including information that would enable the Department of the Interior to make an informed decision regarding meeting the membership requirements of the ACWI and permit the Department of the Interior to contact a potential member.

No individual who is currently registered as a Federal lobbyist is eligible to serve as a member of the ACWI.

The Committee functions solely as an advisory body, and in compliance with the provisions of the Federal Advisory Committee Act. Nominations for member organizations should be submitted to the Executive Secretary, at the address listed below.

FOR FURTHER INFORMATION CONTACT: Ms. Wendy E. Norton (Executive Secretary), Chief, Water Information Coordination Program, U.S. Geological Survey, 12201 Sunrise Valley Drive, MS 417, Reston VA 20192. Telephone: 703-648-6810; Fax: 703-648-5644.

SUPPLEMENTARY INFORMATION: The ACWI has been established under the authority of the Office of Management and Budget and Budget Memorandum No. M-92-01 and the Federal Advisory Committee Act, as amended, (5 U.S.C. App. 2), and with the concurrence of the General Services Administration.

The purpose of the ACWI is to represent the interests of water-information users and professionals in advising the Federal Government on Federal water-information programs and their effectiveness in meeting the Nation's water-information needs. Member organizations help to foster communications between the Federal and non-Federal sectors on sharing water information.

Dated: May 5, 2013.
Jerad D. Bales,
Acting Associate Director for Water.

[FR Doc. 2013-11218 Filed 5-10-13; 8:45 am]

BILLING CODE 4311-AM-P